DEPARTMENT OF ENERGY

Federal Energy Regulatory Commission

Combined Notice of Filings

Take notice that the Commission has received the following Natural Gas Pipeline Rate and Refund Report filings:

Filings Instituting Proceedings

Docket Numbers: RP13-1133-000.

Applicants: Gulf South Pipeline Company, LP.

Description: Cap Rel Neg Rate Agmt (QEP 37657 to BP 41160) to be effective 8/1/2013.

Filed Date: 7/31/13.

Accession Number: 20130731-5018.

Comments Due: 5 p.m. ET 8/12/13.

Docket Numbers: RP13-1134-000.

Applicants: Panther Interstate Pipeline Energy, LLC.

Description: Panther Order No. 776 Compliance Filing to be effective 10/1/2013.

Filed Date: 7/31/13.

Accession Number: 20130731-5022.

Comments Due: 5 p.m. ET 8/12/13.

Docket Numbers: RP13-1135-000.

Applicants: Dauphin Island Gathering Partners.

Description: Order No. 776 Compliance—ACA Charge to be effective 10/1/2013.

Filed Date: 7/31/13.

Accession Number: 20130731-5033.

Comments Due: 5 p.m. ET 8/12/13.

Docket Numbers: RP13-1136-000.

Applicants: Cimarron River Pipeline, LLC.

Description: ACA Compliance Filing (Order 776) to be effective 10/1/2013.

Filed Date: 7/31/13.

Accession Number: 20130731-5034.

Comments Due: 5 p.m. ET 8/12/13.

Docket Numbers: RP13-1137-000.

Applicants: Algonquin Gas Transmission, LLC.

Description: KeySpan Ramapo Release August 2013 to be effective 8/1/2013.

Filed Date: 7/31/13.

Accession Number: 20130731-5040.

Comments Due: 5 p.m. ET 8/12/13.

Docket Numbers: RP13-1138-000.

Applicants: Alliance Pipeline L.P.

Description: ACA 2013 Order 776 to be effective 10/1/2013.

Filed Date: 7/31/13.

Accession Number: 20130731-5043.

Comments Due: 5 p.m. ET 8/12/13.

Docket Numbers: RP13-1139-000.

Applicants: Northern Natural Gas Company.

Description: 20130731 Miscellaneous Filing to be effective 8/31/2013.

Filed Date: 7/31/13.

Accession Number: 20130731-5047.

Comments Due: 5 p.m. ET 8/12/13.

Docket Numbers: RP13-1140-000.

Applicants: Paiute Pipeline Company.

Description: Non-conforming Service Agreements to be effective 7/31/2013.

Filed Date: 7/31/13.

Accession Number: 20130731-5048.

Comments Due: 5 p.m. ET 8/12/13.

Docket Numbers: RP13-1141-000.

Applicants: Northern Natural Gas Company.

Description: 20130731 Negotiated Rate to be effective 8/1/2013.

Filed Date: 7/31/13.

Accession Number: 20130731-5049.

Comments Due: 5 p.m. ET 8/12/13.

Docket Numbers: RP13-1142-000.

Applicants: Algonquin Gas Transmission, LLC.

Description: Brooklyn Union Ramapo Release August 2013 to be effective 8/1/2013.

Filed Date: 7/31/13.

Accession Number: 20130731-5054.

Comments Due: 5 p.m. ET 8/12/13.

Docket Numbers: RP13-1143-000.

Applicants: Great Lakes Gas Transmission Limited Par.

Description: Great Lakes Gas Transmission Limited Partnership Semi-Annual Transporter's Use Report.

Filed Date: 7/31/13.

Accession Number: 20130731-5060.

Comments Due: 5 p.m. ET 8/12/13.

Docket Numbers: RP13-1144-000.

Applicants: Big Sandy Pipeline, LLC.

Description: Big Sandy Fuel Filing effective 9-1-2013.

Filed Date: 7/31/13.

Accession Number: 20130731-5064.

Comments Due: 5 p.m. ET 8/12/13.

Docket Numbers: RP13-1145-000.

Applicants: Ryckman Creek Resources, LLC.

Description: Ryckman Creek ACA Filing to be effective 10/1/2013.

Filed Date: 7/31/13.

Accession Number: 20130731-5069.

Comments Due: 5 p.m. ET 8/12/13.

Docket Numbers: RP13-1146-000.

Applicants: Big Sandy Pipeline, LLC.

Description: Imbalance Resolution Provisions to be effective 9/1/2013.

Filed Date: 7/31/13.

Accession Number: 20130731-5070.

Comments Due: 5 p.m. ET 8/12/13.

Docket Numbers: RP13-1147-000.

Applicants: Tres Palacios Gas Storage LLC.

Description: Tres Palacios Gas Storage LLC—Order No. 776 Compliance Filing to be effective 10/1/2013.

Filed Date: 7/31/13.

Accession Number: 20130731-5075.

Comments Due: 5 p.m. ET 8/12/13.

Docket Numbers: RP13-1148-000.

Applicants: Tallgrass Interstate Gas Transmission, L.

Description: Neg Rate 2013-07-31 Green Plains fka Choice Ethanol to be effective 8/1/2013.

Filed Date: 7/31/13.

Accession Number: 20130731-5135.

Comments Due: 5 p.m. ET 8/12/13.

Docket Numbers: RP13-1149-000.

Applicants: Natural Gas Pipeline Company of America.

Description: NJR Energy Services LPS—RO to be effective 8/1/2013.

Filed Date: 7/31/13.

Accession Number: 20130731-5140.

Comments Due: 5 p.m. ET 8/12/13.

Docket Numbers: RP13-1150-000.

Applicants: Texas Eastern Transmission, LP.

Description: TETLP July 31 Negotiated Rate Release to be effective 8/1/2013.

Filed Date: 7/31/13.

Accession Number: 20130731-5142.

Comments Due: 5 p.m. ET 8/12/13.

Docket Numbers: RP13-1151-000.

Applicants: Natural Gas Pipeline Company of America.

Description: EDF Trading Negotiated Rate to be effective 8/1/2013.

Filed Date: 7/31/13.

Accession Number: 20130731-5144.

Comments Due: 5 p.m. ET 8/12/13.

Docket Numbers: RP13-1152-000.

Applicants: Natural Gas Pipeline Company of America.

Description: Castleton Negotiated Rate Filing to be effective 8/1/2013.

Filed Date: 7/31/13.

Accession Number: 20130731-5146.

Comments Due: 5 p.m. ET 8/12/13.

Docket Numbers: RP13-1153-000.

Applicants: Equitrans, L.P.

Description: Negotiate Rate Service Agreements—EQT Energy & Range Resources to be effective 8/1/2013.

Filed Date: 7/31/13.

Accession Number: 20130731-5155.

Comments Due: 5 p.m. ET 8/12/13.

Docket Numbers: RP13-1154-000.

Applicants: Questar Pipeline Company.

Description: JL 47 Loop Compliance Filing Berry Pet TSA.

Filed Date: 7/31/13.

Accession Number: 20130731-5172.

Comments Due: 5 p.m. ET 8/12/13.

Docket Numbers: RP13-1155-000.

Applicants: Equitrans, L.P.

Description: Negotiated Rate Service Agreements—Retainage Provisions to be effective 8/1/2013.

Filed Date: 7/31/13.

Accession Number: 20130731-5187.

Comments Due: 5 p.m. ET 8/12/13.

Docket Numbers: RP13-1156-000.

Applicants: Kern River Gas Transmission Company.

Description: 2013 ACA Compliance to be effective 10/1/2013.

Filed Date: 8/1/13.

Accession Number: 20130801-5000.

Comments Due: 5 p.m. ET 8/13/13.

Docket Numbers: RP13-1157-000.

Applicants: MIGC LLC.

Description: MIGC LLC Order 776 ACA Compliance Filing to be effective 10/1/2013.

Filed Date: 8/1/13.

Accession Number: 20130801-5001.

Comments Due: 5 p.m. ET 8/13/13.

Docket Numbers: RP13-1158-000.

Applicants: Natural Gas Pipeline Company of America.

Description: ACA Filing to be effective 10/1/2013.

Filed Date: 8/1/13.

Accession Number: 20130801-5002.

Comments Due: 5 p.m. ET 8/13/13.

Docket Numbers: RP13-1159-000.

Applicants: Equitrans, L.P.

Description: Equitrans, L.P. 2013 Annual Charge Adjustment Filing to be effective 10/1/2013.

Filed Date: 8/1/13.

Accession Number: 20130801-5006.

Comments Due: 5 p.m. ET 8/13/13.

Docket Numbers: RP13-1160-000.

Applicants: Pine Needle LNG Company, LLC.

Description: 2013 Pine Needle ACA Filing to be effective 10/1/2013.

Filed Date: 8/1/13.

Accession Number: 20130801-5014.

Comments Due: 5 p.m. ET 8/13/13.

Docket Numbers: RP13-1161-000.

Applicants: Texas Gas Transmission, LLC.

Description: Amendments to Neg Rate Agmts (Southwestern 27019 and 27435) to be effective 8/1/2013.

Filed Date: 8/1/13.

Accession Number: 20130801-5031.

Comments Due: 5 p.m. ET 8/13/13.

Docket Numbers: RP13-1162-000.

Applicants: Florida Gas Transmission Company, LLC.

Description: ACA Compliance Filing on 8-1-2013 to be effective 10/1/2013.

Filed Date: 8/1/13.

Accession Number: 20130801-5036.

Comments Due: 5 p.m. ET 8/13/13.

Docket Numbers: RP13-1163-000.

Applicants: Texas Gas Transmission, LLC.

Description: Order 776 compliance filing (ACA) to be effective 10/1/2013.

Filed Date: 8/1/13.

Accession Number: 20130801-5038.

Comments Due: 5 p.m. ET 8/13/13.

Docket Numbers: RP13-1164-000.

Applicants: Gulf South Pipeline Company, LP.

Description: Order 776 Compliance Filing (ACA) to be effective 10/1/2013.

Filed Date: 8/1/13.

Accession Number: 20130801-5043.

Comments Due: 5 p.m. ET 8/13/13.

Docket Numbers: RP13-1165-000.

Applicants: Gulf Crossing Pipeline Company LLC.

Description: Order 776 Compliance Filing (ACA) to be effective 10/1/2013.

Filed Date: 8/1/13.

Accession Number: 20130801-5044.

Comments Due: 5 p.m. ET 8/13/13.

Docket Numbers: RP13-1166-000.

Applicants: Petal Gas Storage, L.L.C.

Description: Order 776 compliance filing (ACA) to be effective 10/1/2013.

Filed Date: 8/1/13.

Accession Number: 20130801-5045.

Comments Due: 5 p.m. ET 8/13/13.

Docket Numbers: RP13-1167-000.

Applicants: Panhandle Eastern Pipe Line Company, LP.

Description: ACA Compliance Filing on 8-1-2013 to be effective 10/1/2013.

Filed Date: 8/1/13.

Accession Number: 20130801-5046.

Comments Due: 5 p.m. ET 8/13/13.

Docket Numbers: RP13-1168-000.

Applicants: Boardwalk Storage Company, LLC.

Description: Order 776 Compliance Filing (ACA) to be effective 10/1/2013.

Filed Date: 8/1/13.

Accession Number: 20130801-5047.

Comments Due: 5 p.m. ET 8/13/13.

Docket Numbers: RP13-1169-000.

Applicants: Trunkline Gas Company, LLC.

Description: ACA Compliance Filing on 8-1-2013 to be effective 10/1/2013.

Filed Date: 8/1/13.

Accession Number: 20130801-5048.

Comments Due: 5 p.m. ET 8/13/13.

Docket Numbers: RP13-1170-000.

Applicants: Southwest Gas Storage Company.

Description: ACA Compliance Filing on 8-1-2013 to be effective 10/1/2013.

Filed Date: 8/1/13.

Accession Number: 20130801-5049.

Comments Due: 5 p.m. ET 8/13/13.

Docket Numbers: RP13-1171-000.

Applicants: Sea Robin Pipeline Company, LLC.

Description: ACA Compliance Filing on 8-1-2013 to be effective 10/1/2013.

Filed Date: 8/1/13.

Accession Number: 20130801-5050.

Comments Due: 5 p.m. ET 8/13/13.

Docket Numbers: RP13-1172-000.

Applicants: Trunkline LNG Company, LLC.

Description: ACA Compliance Filing on 8-1-2013 to be effective 10/1/2013.

Filed Date: 8/1/13.

Accession Number: 20130801-5051.

Comments Due: 5 p.m. ET 8/13/13.

Docket Numbers: RP13-1173-000.

Applicants: ETC Tiger Pipeline, LLC.

Description: ACA Compliance Filing on 8-1-2013 to be effective 10/1/2013.

Filed Date: 8/1/13.

Accession Number: 20130801-5052.

Comments Due: 5 p.m. ET 8/13/13.

Docket Numbers: RP13-1174-000.

Applicants: Fayetteville Express Pipeline LLC.

Description: Fayetteville Express Pipeline LLC submits tariff filing per 154.203: ACA Compliance Filing on 8-1-2013 to be effective 10/1/2013.

Filed Date: 8/1/13.

Accession Number: 20130801-5053.

Comments Due: 5 p.m. ET 8/13/13

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-1097-003.

Applicants: Eastern Shore Natural Gas Company.

Description: Storage Tracker Filing—October 1, 2012 to be effective 10/1/2012.

Filed Date: 7/31/13.

Accession Number: 20130731-5088.

Comments Due: 5 p.m. ET 8/12/13.

Docket Numbers: RP13-1097-004.

Applicants: Eastern Shore Natural Gas Company.

Description: Storage Tracker Amendment—Nov. 1, 2012 to be effective 11/1/2012.

Filed Date: 7/31/13.

Accession Number: 20130731-5113.

Comments Due: 5 p.m. ET 8/12/13.

Docket Numbers: RP13-1097-005.

Applicants: Eastern Shore Natural Gas Company.

Description: Storage Tracker Filing—April 1, 2013 to be effective 4/1/2013.

Filed Date: 7/31/13.

Accession Number: 20130731-5128.

Comments Due: 5 p.m. ET 8/12/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 1, 2013.
Nathaniel J. Davis, Sr.,
Deputy Secretary.

[FR Doc. 2013-19591 Filed 8-13-13; 8:45 am]

BILLING CODE 6717-01-P